FEDERAL COMMUNICATIONS COMMISSION

[RM-10803; DA 03-3911]

Broadcasters' Service to Their Local Communities

AGENCY: Federal Communications Commission.

ACTION: Notice of meeting.

SUMMARY: The Federal Communications Commission will hold a Localism Task Force hearing in San Antonio, Texas, on January 28, 2004, on localism in the broadcast industry. The purpose of the hearing is to gather information from a variety of sources, including consumers, industry, and civic organizations on broadcasters' service to their local communities.

DATES: The hearing will be held on Wednesday, January 28, 2004, from 5:30 p.m. to 9:30 p.m.

ADDRESSES: The hearing will be held at the City Council Chamber in the Municipal Plaza Building, located at 103 Main Plaza, San Antonio, Texas 78205.

FOR FURTHER INFORMATION CONTACT: Elizabeth Valinoti, 202-418-2330.

SUPPLEMENTARY INFORMATION: The Federal Communications Commission (FCC) will hold a Localism Task Force hearing on the subject of localism, to be held on January 28, 2004, in San Antonio, Texas. Several FCC Commissioners will preside. The hearing is open to the public, and seating will be available on a first-come, first-served basis. The purpose of the hearing is to gather information from consumers, industry, civic organizations, and others on broadcasters' service to their local communities. The San Antonio hearing will begin with a number of invited guests making brief introductory remarks and will be followed by presentations from a variety of panelists. The Commissioners will then have an opportunity to ask the panelists questions or comment on the subject of localism. Finally, the general public will be afforded time to register their views through an “open microphone” format.

2. Open captioning will be provided for this event. Other reasonable accommodations for people with disabilities are available upon request. Please include a description of the accommodation needed, providing as much detail as you can, as well as contact information in case additional information is needed. Please make your request as early as possible. Last minute requests will be accepted, but may be impossible to fulfill. Please send a request by e-mail to fcc504@fcc.gov, or call the Consumer & Governmental Affairs Bureau. For sign language interpreters, CART, and other reasonable accommodations, call (202) 418-0530 (voice) or (202) 418-0432 (TTY). For accessible format material (Braille, large print, electronic files, and audio format), call (202) 418-0531 (voice) or (202) 418-7365 (TTY).

3. The hearing will be recorded, and the record will be available to the public. The public may also file comments or other documents with the Commission. Filing instructions are provided at http://hraunfoss.fcc.gov/edocs.public/attachmatch/DOC-239578A1.doc.

Federal Communications Commission.
P. Michele Ellison,
Deputy General Counsel, Office of the General Counsel.

[FR Doc. 04-1749 Filed 1-26-04; 8:45 am]

BILLING CODE 6712-01-P